DEPARTMENT OF COMMERCE

Foreign-Trade Zones Board

[B-31-2013]

Foreign-Trade Zone (FTZ) 230—Piedmont Triad Area, North Carolina; Notification of Proposed Production Activity; Oracle Flexible Packaging, Inc.; (Foil-Backed Paperboard); Winston-Salem, North Carolina

The Piedmont Triad Partnership, grantee of FTZ 230, submitted a notification of proposed production activity on behalf of Oracle Flexible Packaging, Inc. (OFPI), located in Winston-Salem, North Carolina. The notification conforming to the requirements of the regulations of the FTZ Board (15 CFR 400.22) was received on March 25, 2013.

The OFPI facility is located within Site 28 of FTZ 230. The facility is used for the production of aluminum foil-backed paperboard and to laminate plastic film (the laminating activity is not “production” activity under the FTZ Board's regulations). Pursuant to 15 CFR 400.14(b), FTZ activity would be limited to the specific foreign-status materials and components and specific finished products described in the submitted notification (as described below) and subsequently authorized by the FTZ Board.

Production under FTZ procedures could exempt OFPI from customs duty payments on the foreign status materials and components used in export production. On its domestic sales, OFPI would be able to choose the duty rates during customs entry procedures that apply to aluminum foil-backed paperboard and aluminum scrap (free—3.7%) for the foreign aluminum foil noted below. Customs duties also could possibly be deferred or reduced on foreign status production equipment.

The components and materials sourced from abroad include: aluminum foil (not backed) and plastic (propylene) film (duty rate ranges from 3.0 to 5.8%).

Public comment is invited from interested parties. Submissions shall be addressed to the FTZ Board's Executive Secretary at the address below. The closing period for their receipt is May 28, 2013.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Pierre Duy at Pierre.Duy@trade.gov or (202) 482-1378.

Dated: April 9, 2013.
Andrew McGilvray,
Executive Secretary.

[FR Doc. 2013-09047 Filed 4-17-13; 8:45 am]

BILLING CODE P